ENVIRONMENTAL PROTECTION AGENCY

40 CFR Parts 86 and 600

[EPA-HQ-OAR-2021-0208; FRL-8824-01-OAR]

RIN 2060-AV13

Public Hearing for Revised 2023 and Later Model Year Light-Duty Vehicle Greenhouse Gas Emissions Standards

AGENCY: Environmental Protection Agency (EPA).

ACTION: Notification of public hearing.

SUMMARY: The Environmental Protection Agency (EPA) is announcing a virtual public hearing to be held August 25, 2021, on its proposal for the “Revised 2023 and Later Model Year Light-Duty Vehicle Greenhouse Gas Emissions Standards,” which was signed on July 29, 2021. An additional session will be held on August 26th if necessary, to accommodate the number of testifiers that sign-up to testify. EPA is proposing to revise the greenhouse gas (GHG) emissions standards for light-duty vehicles for 2023 and later model years to make the standards more stringent.

DATES: EPA will hold a virtual public hearing on August 25, 2021. An additional session will be held on August 26th if necessary to accommodate the number of testifiers that sign-up to testify. Please refer to the SUPPLEMENTARY INFORMATION section for additional information on the public hearing.

ADDRESSES: The virtual public hearing will be held on August 25, 2021. An additional session will be held on August 26th if necessary to accommodate the number of testifiers that sign-up to testify. The hearing will convene at 9:30 a.m. Eastern and will conclude when the last pre-registered speaker has testified but no later than 8:00 p.m. Eastern. All hearing attendees (including those who do not intend to provide testimony) should notify the contact person listed under FOR FURTHER INFORMATION CONTACT by August 18, 2021, preferably by email to ASD-Registration@epa.gov. Additional information regarding the hearing appears below under SUPPLEMENTARY INFORMATION.

FOR FURTHER INFORMATION CONTACT: Tad Wysor, Office of Transportation and Air Quality, Assessment and Standards Division (ASD), Environmental Protection Agency, 2000 Traverwood Drive, Ann Arbor, MI 48105; telephone number: (734) 214-4332; email address: ASD-Registration@epa.gov.

SUPPLEMENTARY INFORMATION: The Environmental Protection Agency (EPA) is proposing to revise the greenhouse gas (GHG) emissions standards for light-duty vehicles for 2023 and later model years to make the standards more stringent. On January 20, 2021, President Biden issued Executive Order 13990 “Protecting Public Health and the Environment and Restoring Science To Tackle the Climate Crisis” directing EPA to consider whether to propose suspending, revising, or rescinding the standards previously revised under the “The Safer Affordable Fuel-Efficient (SAFE) Vehicles Rule for Model Years 2021-2026 Passenger Cars and Light Trucks,” promulgated in April 2020. The SAFE rule significantly weakened the standards established in 2012 for this time period. Based on our updated assessment, EPA is proposing under the Clean Air Act to revise the GHG standards to be more stringent than the SAFE rule standards in each model year from 2023 through 2026. EPA is also proposing to include several flexibilities to ease the auto manufacturers' transition to the more stringent standards, including incentives for the production of vehicles with zero or near-zero emissions technology. In addition, EPA is proposing some technical amendments to clarify and streamline our regulations. The proposed revised standards would result in significant net benefits. The “Revised 2023 and Later Model Year Light-Duty Vehicle Greenhouse Gas Emissions Standards” proposal was signed on July 29th and will be published separately in the Federal Register. The pre-publication version is available at https://www.epa.gov/regulations-emissions-vehicles-and-engines/proposed-rule-revise-existing-national-ghg-emissions.

Participation in Virtual Public Hearing

Please note that EPA is deviating from its typical approach for public hearings. Because of current CDC recommendations, as well as state and local orders for social distancing to limit the spread of COVID-19, EPA is not holding in-person public meetings at this time.

EPA will begin pre-registering speakers for the hearing upon publication of this document in the Federal Register. To register to speak at the virtual hearing, please contact the person listed in the FOR FURTHER INFORMATION CONTACT section, preferably by email to ASD-Registration@epa.gov. The last day to pre-register to speak at the hearing will be August 18, 2021.

Each commenter will have 3 minutes to provide oral testimony. EPA may ask clarifying questions during the oral presentations but will not respond to the presentations at that time. EPA recommends submitting the text of your oral comments as written comments to the rulemaking docket. Written statements and supporting information submitted during the comment period will be considered with the same weight as oral comments and supporting information presented at the public hearing.

Please note that any updates made to any aspect of the hearing logistics, including any change to the date of the hearing or a potential additional session on August 26, 2021, will be posted online at the light-duty vehicle GHG rule website https://www.epa.gov/regulations-emissions-vehicles-and-engines/proposed-rule-revise-existing-national-ghg-emissions. While EPA expects the hearing to go forward as set forth above, please monitor our website or contact the person listed in the FOR FURTHER INFORMATION CONTACT section to determine if there are any updates. EPA does not intend to publish a document in the Federal Register announcing updates.

If you require the services of a translator or special accommodations such as audio description, please pre-register for the hearing and describe your needs by August 18, 2021. EPA may not be able to arrange accommodations without advance notice.

How can I get copies of the proposed action and other related information?

EPA has established a docket for this action under Docket ID No. EPA-HQ-OAR-2021-0208. EPA has also developed a website for this proposal, which is available at https://www.epa.gov/regulations-emissions-vehicles-and-engines/proposed-rule-revise-existing-national-ghg-emissions. Please refer to the notice of proposed rulemaking for detailed information on accessing information related to the proposal.

Dated: July 29, 2021.
William Charmley,
Director, Assessment and Standards Division, Office of Transportation and Air Quality, Office of Air and Radiation.

[FR Doc. 2021-16598 Filed 8-6-21; 8:45 am]

BILLING CODE 6560-50-P